DEPARTMENT OF TRANSPORTATION

Federal Motor Carrier Safety Administration

49 CFR Part 375

[Docket No. FMCSA-2012-0119]

RIN 2126-AB52

Transportation of Household Goods in Interstate Commerce; Consumer Protection Regulations

AGENCY: Federal Motor Carrier Safety Administration (FMCSA), DOT.

ACTION: Direct final rule; confirmation of effective date.

SUMMARY: FMCSA confirms the effective date for its June 20, 2012, direct final rule concerning household goods consumer protection. The direct final rule amended the regulations governing the transportation of household goods to remove an obsolete requirement related to collect calls, resolved ambiguities, and made other noncontroversial amendments. The Agency did not receive any comments in response to the direct final rule and confirms the August 20, 2012, effective date of the rule.

DATES: The effective date for the direct final rule published in the Federal Register on June 20, 2012 (77 FR 36932), is confirmed as August 20, 2012.

ADDRESSES: The docket for this rulemaking (FMCSA-2012-0119) is available for inspection at http://www.regulations.gov. If you do not have access to the Internet, you may also view the docket by visiting the Docket Management Facility in Room W12-140 on the ground floor of the Department of Transportation West Building, 1200 New Jersey Avenue SE., Washington, DC 20590, between 9 a.m. and 5 p.m. e.t., Monday through Friday, except Federal holidays.

FOR FURTHER INFORMATION CONTACT: Mr. Brodie Mack, FMCSA, Household Goods Team Leader, Commercial Enforcement and Investigations Division at (202) 385-2400 or by email at brodie.mack@dot.gov.

SUPPLEMENTARY INFORMATION: On June 20, 2012, FMCSA published a direct final rule amending its regulations at 49 CFR part 375. The rule clarified that certain independent delivery services are not household goods motor carriers, removed an obsolete provision requiring household goods motor carriers to post notices relating to acceptance of collect telephone calls, clarified the Agency's requirement that renegotiated estimates contain detailed descriptions of the goods or services that gave rise to the renegotiation, and required household goods motor carriers that relinquish possession of goods to permanent storage to do so in the shipper's name.

FMCSA used the Agency's direct final rule procedures (75 FR 29915, May 28, 2010) because it was a routine and noncontroversial amendment, and the Agency did not expect any adverse comments. The direct final rule advised the public that unless a written adverse comment, or a written notice of intent to submit such an adverse comment, was received by July 20, 2012, the Agency would provide notice confirming the effective date. Because the Agency did not receive any comments to the docket by July 20, 2012, the direct final rule will become effective August 20, 2012.

Issued on: August 8, 2012.
Larry W. Minor,
Associate Administrator for Policy.

[FR Doc. 2012-19876 Filed 8-13-12; 8:45 am]

BILLING CODE 4910-EX-P